DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action By Trade Adjustment Assistance for Period 11/30/00-01/19/99
Firm name | Address | DatePetition accepted | Product
Sunshine Cap Company | 1142 W, Main Street, Lakeland, FL 33815 | 12/01/99 | Caps, visors, and hats of cotton.
Pinnacle Plastics, Inc | 2301 West 21st St., Erie, PA 16506 | 12/09/99 | Plastic injection molds.
Craig Blanchard d.b.a., Biagaanas Jewelers | 4404 Menaul, Albuquerque, NM 87110 | 12/09/99 | Silver jewelry.
Fabricated Plastics, Inc., d.b.a., FPI Thermoplastic Technologies | 178 Hanover Avenue, Morristown, NJ 07962 | 12/09/99 | Plastic injection molds.
Felley, Inc | 2400 Washington St. NE, Albuquerque, NM 87110 | 12/10/99 | Silver and gold jewelry.
Custom Tool & Die, LLC | 240 Corporate Drive, Sibley, LA 71073 | 12/10/99 | Injection molds for rubber or plastic.
Contrax Technology, Inc | 7509 Connelly Drive, Hanover, MD 21076 | 12/13/99 | Printed circuit boards.
Dexall Biomedical Labs., Inc | 18904 Bonanza Way, Gaithersburg, MD 20879 | 12/13/99 | Diagnostic medical kits for human infectious diseases and autoimmune diseases.
Altek, Inc | 22819 E. Appleway Ave., Liberty Lake, WA 99019 | 12/15/99 | Injection molded temperature sensor parts.
Mathews Wire, Inc | 654 West Morrison St., Frankfort, IN 46041 | 12/20/99 | Metal candle holders.
Sturdy Oak Wood Crafts | 213 S. Jefferson, Elk City, OK 73648 | 12/20/99 | Tableware and kitchenware of wood.
Kirks Folly, Inc | 236 Chapman Street, Providence, RI 02905 | 12/20/99 | Theme oriented fashion jewelry, watches, and picture frames.
Robinson Foundry, Inc | 505 Robinson Court, Alexander City, AL 35011 | 12/21/99 | Motors and generator housings of cast iron and tractor parts for agricultural use.
DSA Precision Machining, Inc | 5845 Big Tree Road, Lakeville, NY 14480 | 01/03/00 | Metal gears for the transportation industry.
Best Carbide Cutting Tools, Inc | 1454 West 135th Street, Gardena, CA 90249 | 01/03/00 | Carbide cutting tools for industrial machinery and semiconductor manufacturing equipment.
Model Die Casting, Inc | 5070 Sigstrom Drive, Carson City, NV 89706 | 01/03/00 | Model trains.
Douglas Snyder d.b.a., Snyder Systems | 6006 Egret Court, Benicia, CA 94510 | 01/03/00 | Precision machined parts and metal stamped parts of semiconductor manufacturing equipment.
Tops Malibu, Inc | 5555 West 11th Avenue, Eugene, OR 97402 | 01/03/00 | Candles and other gift items including soaps, games, and party favors.
OK Investment Casting Corp. d.b.a., N. American Precision Casting Co | 708 North 29th Street, Blackwell, OK 74631 | 01/03/00 | Couplings for hoses, and production tools and chemical static mixers.
Kelson Precision Machine, Inc | 808 S. 8th Street, Broken Arrow, OK 74012 | 01/05/00 | Valve parts.
Dexter Research Center, Inc | 7300 Huron River Drive, Dexter, MI 48130 | 01/05/00 | Metal thermal analysis detectors using optical radiation.
William Ellyn Douglas, L.L.C. d.b.a., Warren Industries, L.L.C | 6401 Falco Road, Rockford, IL 61109 | 01/05/00 | Thread rolling machinery.
BBC Industries, Inc | 1526 Fenpark Drive, Fenton, MO 63026 | 01/19/00 | Industrial ovens, screen printing dryers, heaters, and shrink-wrap packaging equipment.
Ro-An Jewelry, Inc | 1 Industrial Lane, Johnston, RI 01919 | 01/19/00 | Jewelry.
Micro Industries, Inc | 200 West Second St., Rock Falls, IL 61071 | 01/19/00 | Die cast zinc components.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

(The Catalog of Federal Domestic Assistance official program number and title of the program under which these petitions are submitted is 11.313, Trade Adjustment Assistance.)

Dated: January 21, 2000.
Anthony J. Meyer,
Coordinator, Trade Adjustment and Technical Assistance.

[FR Doc. 00-2460 Filed 2-3-00; 8:45 am]

BILLING CODE 3510-24-P